DEPARTMENT OF THE INTERIOR

Bureau of Safety and Environmental Enforcement

[Docket ID BSEE-2016-0009; OMB Number 1014-0004; 17XE1700DX EEEE500000 EX1SF0000.DAQ000]

Information Collection Activities: Oil and Gas Well-Completion Operations; Submitted for Office of Management and Budget (OMB) Review; Comment Request

AGENCY: Bureau of Safety and Environmental Enforcement, Interior.

ACTION: 30-Day notice.

SUMMARY: To comply with the Paperwork Reduction Act of 1995 (PRA), the Bureau of Safety and Environmental Enforcement (BSEE) is notifying the public that we have submitted to OMB an information collection request (ICR) to renew approval of the paperwork requirements in the regulations under Subpart E, Oil and Gas Well Completion Operations. This notice also provides the public a second opportunity to comment on the revised paperwork burden of these regulatory requirements.

DATES: You must submit comments by November 28, 2016.

ADDRESSES: Submit comments by either fax (202) 395-5806 or email (OIRA_Submission@omb.eop.gov) directly to the Office of Information and Regulatory Affairs, OMB, Attention: Desk Officer for the Department of the Interior (1014-0004). Please provide a copy of your comments to BSEE by any of the means below.

• Electronically: go to http://www.regulations.gov. In the Search box, enter BSEE-2016-0009 then click search. Follow the instructions to submit public comments and view all related materials. We will post all comments.

• Email: Kelly.Odom@bsee.gov, fax (703) 787-1546, or mail or hand-carry comments to: Department of the Interior; Bureau of Safety and Environmental Enforcement; Regulations and Standards Branch; ATTN: Kelly Odom; 45600 Woodland Road, Sterling, VA 20166. Please reference 1014-0004 in your comment and include your name and return address.

FOR FURTHER INFORMATION CONTACT: Kelly Odom, Regulations and Standards Branch, (703) 787-1775, to request additional information about this ICR. To see a copy of the entire ICR submitted to OMB, go to http://www.reginfo.gov (select Information Collection Review, Currently Under Review).

SUPPLEMENTARY INFORMATION:

Title: 30 CFR 250, Subpart E, Oil and Gas Well-Completion Operations.

OMB Control Number: 1014-0004.

Abstract: The Outer Continental Shelf (OCS) Lands Act, as amended at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and gas resources in the OCS in a manner that is consistent with the need to make such resources available to meet the Nation's energy needs as rapidly as possible; to balance orderly energy resources development with protection of the human, marine, and coastal environment; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

These authorities and responsibilities are among those delegated to BSEE. The regulations at 30 CFR 250, Subpart E, concern oil and gas well-completion operations and are the subject of this collection. This request also covers the related Notices to Lessees and Operators (NTLs) that BSEE issues to clarify, supplement, or provide additional guidance on some aspects of our regulations.

All responses are mandatory. This collection does not contain questions of a sensitive nature. BSEE will protect proprietary information according to the Freedom of Information Act (5 U.S.C. 552) and DOI's implementing regulations (43 CFR 2); 30 CFR part 250.197, Data and information to be made available to the public or for limited inspection; and 30 CFR part 252, OCS Oil and Gas Information Program. BSEE uses the information collected under Subpart E to ensure that planned well-completion operations will protect personnel and natural resources. We use the analysis and evaluation results in the decision to approve, disapprove, or require modification to the proposed well-completion operations. Specifically, BSEE uses the information to ensure:

• Compliance with personnel safety training requirements;

• Crown block safety device is operating and can be expected to function to avoid accidents;

• Proposed operation of the annular preventer is technically correct and provides adequate protection for personnel, property, and natural resources;

• Well-completion operations are conducted on well casings that are structurally competent; and

• Sustained casing pressures are within acceptable limits.

Frequency: Weekly, monthly, biannually, and vary by section.

Description of Respondents: Potential respondents comprise Federal oil, gas, or sulfur lessees and/or operators, and holders of pipeline rights-of-way.

Estimated Reporting and Recordkeeping Hour Burden: The estimated annual hour burden for this information collection is a total of 14,890 hours. The following chart details the individual components and estimated hour burdens. In calculating the burdens, we assumed that respondents perform certain requirements in the normal course of their activities. We consider these to be usual and customary and took that into account in estimating the burden.

30 CFR 250 subpart E | Reporting and recordkeeping requirements | Hour burden | Average number of annual responses | Annual burden hours (rounded)
500-531 | General departure and alternative compliance requests not specifically covered elsewhere in Subpart E regulations | Burden covered under Subpart A—1014-0022 |  | 0
513 | These sections contain references to information, approvals, requests, payments, etc., which are submitted with an APD, the burdens for which are covered under its own information collection | APD burden covered under 1014-0025 |  | 0
513(a); 518(f); 526(a); 527 | These sections contain references to information, approvals, requests, payments, etc., which are submitted with an APM, the burdens for which are covered under its own information collection | APM burden covered under 1014-0026 |  | 0
511 | Record weekly results of traveling-block safety device in operations log | 1.5 | 455 completions × 1 recordings = 455 | 683
512 | Request establishment, amendment, or cancellation of well-completion field rules | 13 | 20 requests | 260
513(c), (d) | Submit End of Operations Report (Form BSEE-0125) to District Manager 30-days after completion; including additional supporting information and public info. copy | Burden covered under Subpart D—1014-0018 |  | 0
514(c) | Post the number of stands of drill pipe/collars that may be pulled and equivalent well-control fluid volume | 1.5 | 807 postings | 1,211
524 | Retain records of casing pressure and diagnostic tests for 2 years or until the well is abandoned | 1.75 | 3,547 records | 6,207
526(b); 528 | Submit a casing pressure request; any additional information as needed | 8 | 681 requests | 5,448
530(a) | Submit correction action plan to District Manager; notify BSEE after completion of corrected action within 30 days | 13 | 71 plans | 923
530(b) | Submit the casing pressure diagnostic test data within 14 days | 2.5 | 63 submittals | 158
Total Burden |  |  | 5,644 | 14,890

Estimated Reporting and Recordkeeping Non-Hour Cost Burden: We have identified no non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on June 13, 2016, we published a Federal Register notice (81 FR 38215) announcing that we would submit this ICR to OMB for approval. The notice provided the required 60-day comment period. In addition, § 250.199 provides the OMB Control Number for the information collection requirements imposed by 30 CFR 250, Subpart E regulations. The regulation also informs the public that they may comment at any time on the collection of information and provides the address to which they should send comments. We did not receive any comments in response to the Federal Register notice.

Public Availability of Comments: Before including your address, phone number, email address, or other personal identifying information in your comment, you should be aware that your entire comment—including your personal identifying information—may be made publicly available at any time. While you can ask us in your comment to withhold your personal identifying information from public review, we cannot guarantee that we will be able to do so.

BSSE Information Collection Clearance Officer: Nicole Mason, (703) 787-1607.

Robert W. Middleton,
Deputy Chief, Office of Offshore Regulatory Programs.

[FR Doc. 2016-25959 Filed 10-26-16; 8:45 am]

BILLING CODE 4310-VH-P